DEPARTMENT OF DEFENSE

Office of the Secretary

Notice of One-Year Extension of TRICARE Co-Pay Waiver at Captain James A. Lovell Federal Health Care Center Demonstration Project

AGENCY: Office of the Secretary, Department of Defense.

ACTION: Notice of one-year extension of TRICARE co-pay waiver at Captain James A. Lovell Federal Health Care Center Demonstration Project.

SUMMARY: This notice is to advise interested parties of a one-year extension of a demonstration project entitled “TRICARE Co-Pay Waiver at Captain James A. Lovell Federal Health Care Center (FHCC) Demonstration Project.” The original waiver notice was published on September 27, 2010 (75 FR 59237).

DATES: Effective Date: This one-year extension will be effective from October 1, 2015 to September 30, 2016.

FOR FURTHER INFORMATION CONTACT: Mr. Michael Bouchard, Director, DoD/VA Program Coordination Office, Defense Health Agency, Telephone 703-681-4258.

SUPPLEMENTARY INFORMATION:

A. Background

For additional information on the TRICARE co-pay waiver demonstration at the Captain James A. Lovell Federal Health Care Center (FHCC) demonstration project, please see 75 FR 59237. Under this demonstration, there would be no deductibles, cost shares, or co-pays for eligible beneficiaries seeking care at the FHCC, under the authority of 10 U.S.C. 1092(a)(1)(B). The original demonstration notice explained that the co-pay waiver demonstration would be used to determine if increased utilization at FHCC actually occurred as a result of eliminated co-payments, which would in turn influence decisions regarding financial integration at future Department of Defense (DoD)/Department of Veterans Affairs (VA) models of this nature. This demonstration is also integral to the success of the integration effort at FHCC; without it, FHCC would see a marked reduction in DoD beneficiaries.

B. Description of Extension of Demonstration Project

Under this demonstration, DoD has waived TRICARE co-payments for DoD beneficiaries seen at the FHCC. The FHCC demonstration project is scheduled to end on September 30, 2015. The National Defense Authorization Act (NDAA) for fiscal year (FY) 2010 section 1701 requires a report to Congress evaluating the exercise of authorities in that title, which is due on October 28, 2015. Therefore, DoD submitted a legislative proposal to extend the funding of the FHCC demonstration project for an additional year, through September 30, 2016, in order to fully assess the FHCC demonstration project, develop and submit the final report, and execute the results of the report. In order to allow seamless continuation of services to beneficiaries at FHCC, the TRICARE co-pay waiver is also extended through September 30, 2016 to align with the extension of the funding for the FHCC demonstration project. This waiver applies to all inpatient, outpatient, and ancillary services, and all outpatient prescription drugs provided at FHCC. This waiver is consistent with current policies and procedures followed at all military treatment facilities. According to an Independent Government Cost Estimate (IGCE), it is estimated that the one-year impact for the co-pay waiver in FY 2016 is $121,720, which is slightly higher than the original demonstration notice due to an underlying trend of increased utilization over time.

C. Evaluation

An independent evaluation will continue to be conducted as part of the overall FHCC evaluation required by NDAA FY2010 section 1701.

Dated: March 4, 2015.
Aaron Siegel,
Alternate OSD Federal Register Liaison Officer, Department of Defense.

[FR Doc. 2015-05393 Filed 3-6-15; 8:45 am]

BILLING CODE 5001-06-P